NATIONAL AERONAUTICS AND SPACE ADMINISTRATION

[Notice 23-014]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for the purpose of soliciting, from the aeronautics community and other persons, research and technical information relevant to program planning.

DATES: Wednesday, March 22, 2023, 8:30 a.m.-2:30 p.m., PDT

ADDRESSES: NASA Armstrong Flight Research Center, Edwards, CA 93523.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be available to the public online via MS-Teams. Dial-in audio teleconference and webcast details to watch the meeting remotely will be available on the NASA Advisory Council Aeronautics Committee website at: https://www.nasa.gov/aeroresearch/aero-nac-committee. Enter the meeting as a guest and type your name and affiliation. Note: If dialing in, please “mute” your telephone. The agenda for the meeting includes the following topics:

—FY 2024 Budget for the Aeronautics Research Mission Directorate

—Sustainable Flight Demonstrator

—University Leadership Initiative Round 6 Awards

It is imperative that the meeting be held on these dates to the scheduling priorities of the key participants.

Patricia Rausch,
Advisory Committee Management Officer, National Aeronautics and Space Administration.

[FR Doc. 2023-04704 Filed 3-7-23; 8:45 am]

BILLING CODE P